DEPARTMENT OF STATE

[Public Notice 4059]

Office of Visa Services; Notice of Information Collection under Emergency Review: Form DS-158, Contact Information and Work History for Nonimmigrant Visa Applicant

ACTION: Notice.

SUMMARY: The Department of State has submitted the following information collection request to the Office of Management and Budget (OMB) for review and approval in accordance with the emergency review procedures of the Paperwork Reduction Act of 1995.

Type of Request: Emergency Review.

Originating Office: Bureau of Consular Affairs, Department of State (CA/VO).

Title of Information Collection: Contact Information and Work History for Nonimmigrant Visa Applicant.

Frequency: Once per respondent.

Form Number: DS-158.

Respondents: All nonimmigrant visa applicants seeking to study in the United States and other nonimmigrant visa applicants as appropriate.

Estimated Number of Respondents: 2,500,000.

Average Hours Per Response: 1 hour.

Total Estimated Burden: 2,500,000 hours.

The proposed information collection is published to obtain comments from the public and affected agencies. Emergency review and approval of this collection has been requested from OMB by June 24, 2002. If granted, the emergency approval is only valid for 180 days. Comments should be directed to the State Department Desk Officer, Office of Information and Regulatory Affairs, Office of Management and Budget (OMB), Washington, DC 20530, who may be reached on 202-395-3897.

During the first 60 days of this same period a regular review of this information collection is also being undertaken. Comments are encouraged and will be accepted until 60 days from the date that this notice is published in the Federal Register. The agency requests written comments and suggestions from the public and affected agencies concerning the proposed collection of information. Your comments are being solicited to permit the agency to:

• Evaluate whether the proposed collection of information is necessary for the proper performance of the functions of the agency, including whether the information will have practical utility.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Brendan Mullarkey of the Office of Visa Services, U.S. Department of State, 2401 E St. NW, Washington, DC 20520, who may be reached on 202-663-1163.

Dated: June 14, 2002.
Catherine Barry,
Acting Deputy Assistant Secretary of State for Visa Services, Bureau of Consular Affairs, Department of State.

[FR Doc. 02-16653 Filed 7-1-02; 8:45 am]

BILLING CODE 4710-06-P